DEPARTMENT OF THE INTERIOR

National Park Service

National Register of Historic Places; Notification of Pending Nominations

Nominations for the following properties being considered for listing in the National Register were received by the National Park Service before October 11, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by November 20, 2003.

Carol D. Shull,
Keeper of the National Register of Historic Places.

California

Solano County

Saint Vincent's Hill Historic District, Roughly bounded by Mare Island Way almost to Sonoma Blvd. and from Quincy Alley to Kissel Alley, Vallejo, 03001168

Connecticut

Fairfield County

Glenville School, 449 Pemberwick Rd., Greenwich, 03001169

New Haven County

St. Luke's Episcopal Church, 111-113 Whalley Ave., New Haven, 03001170

Florida

Hernando County

Chinsegut Hill Manor House, 22495 Chinsegut Hill Rd., Brooksville, 03001171

Kansas

Sedgwick County

Wichita Historic Warehouse and Jobbers District, Bounded by the elevated RR tracks, Douglas and Washington Aves. and 2nd St., Wichita, 03001172

Maryland

Baltimore Independent City

Gay Street Historic District (Cast Iron Architecture of Baltimore MPS), Bounded by N. Gay, Fallsway, Low and N. Exeter Sts., Baltimore, 03001173

Prince George's County

North Brentwood Historic District, Roughly bounded by 39th Pl., Allison St., Rhode Island Ave. and Webster St., North Brentwood, 03001174

Massachusetts

Middlesex County

Church Street Historic District, 72-150 and 117-135 Church St., 4 Central St., Wilmington, 03001175

Gowing—Sheldon Historic District, 642 and 643 Woburn St., Wilmington, 03001176

High Street Historic District, Even nos. 8-72 High St. except 20A and 20R, plus nos. 31, 47, 57 and 67., Wilmington, 03001177

Worcester County

Miss Worcester Diner (Diners of Massachusetts MPS), 302 Southbridge St., Worcester, 03001178

New York

New York County

Decker Building, 33 Union Square W., New York, 03001179

Oregon

Lake County

Lake County Round Sale Barn, 3531 S. 6th St., Lakeview, 03001180

Lane County

Ball, Abraham and Phoebe, House (Residential Architecture of Eugene, Oregon MPS), 1312 Lincoln St., Eugene, 03001181

Lincoln County

Archeological Site No. 35-LNC-54 (Native American Archeological Sites of the Oregon Coast MPS), Address Restricted, Yachats, 03001182

Archeological Site No. 35-LNC-55 (Native American Archeological Sites of the Oregon Coast MPS), Address Restricted, Yachats, 03001183

Archeological Site No. 35-LNC-56 (Native American Archeological Sites of the Oregon Coast MPS), Address Restricted, Yachats, 03001184

Archeological Site No. 35-LNC-57 (Native American Archeological Sites of the Oregon Coast MPS), Address Restricted, Yachats, 03001185

Multnomah County

St. Johns Signal Tower Gas Station, 8302 N. Lombard St., Portland, 03001186

Pennsylvania

Carbon County

Nesquehoning High School, 120-124 E. Catawissa St., Nesquehoning, 03001187

Chester County

Fricks Locks Historic District, End of Fricks Lock Rd., approx. 1000 ft. E. of Sanatoga Rd. (East Coventry Township), Pottstown, 03001188

St. Peters Village Historic District, E. & W. sides of St. Peters Rd. between School Rd. and Rock Run Rd. (Warwick Township), St. Peters, 03001189

Greene County

Colver—Rogers Farmstead, E. of L.R. 30055 at T-159 (Morgan Township), Jefferson, 03001191

Lancaster County

Franklin and Marshall College Campus Historic District, College Avenue, Lancaster, 03001190

Washington County

Dager—Wonsettler Farmstead, 1044 National Park, ½ mi. NW of Jct. PA 519 and U.S. 40 (Amwell Township), Glyde, 03001192

Tennessee

Shelby County

Dixie Greyhound Bus Lines Complex, 525 N. Main St., Memphis, 03001193

Virginia

Charlotte County

Wade Archeological Site (44CH0062), 1035 Fort Hill Trail, Randolph, 03001194

[FR Doc. 03-27721 Filed 11-4-03; 8:45 am]

BILLING CODE 4312-51-P